DEPARTMENT OF THE INTERIOR

National Park Service

[N6787; NPS-WASO-NAGPRA-NPS0041556; PPWOCRADN0-PCU00RP14.R50000]

Notice of Inventory Completion: University of California, Davis, Davis, CA

AGENCY: National Park Service, Interior.

ACTION: Notice.

SUMMARY: In accordance with the Native American Graves Protection and Repatriation Act (NAGPRA), the University of California, Davis (UC Davis) has completed an inventory of human remains and associated funerary objects and has determined that there is a cultural affiliation between the human remains and associated funerary objects and Indian Tribes or Native Hawaiian organizations in this notice.

DATES: Repatriation of the human remains and associated funerary objects in this notice may occur on or after January 20, 2026.

ADDRESSES: Send written requests for repatriation of the human remains and associated funerary objects in this notice to Megon Noble, UC Davis, 412 Mrak Hall, One Shields Avenue, Davis, CA 95616-8522, email mnoble@ucdavis.edu.

SUPPLEMENTARY INFORMATION: This notice is published as part of the National Park Service's administrative responsibilities under NAGPRA. The determinations in this notice are the sole responsibility of UC Davis, and additional information on the determinations in this notice, including the results of consultation, can be found in its inventory or related records. The National Park Service is not responsible for the determinations in this notice.

Abstract of Information Available

Human remains representing, at least, one individual have been identified. The six associated funerary objects are one lot of basket fragments, one sandal fragment, one corn cob, one lot of dripstone (A.K.A. stalactites), one lot of various faunal remains, and one lot of unidentified missing material. UC Davis Department of Anthropology Museum has no record of when the collection (Accession 430) was deposited at the Anthropology Department or the museum. It is assumed to have been anonymously donated. The collection appears to have been removed from a collapsed cave 15-20 miles southeast of Lake Mead or Meadview, Arizona, perhaps from the eastern side of the Grand Wash Cliffs. Locational information is unclear, but the collection may have been removed from lands within the Hualapai Reservation. The affiliation is with the Hualapai Tribe. UC Davis is unaware of any treatment of the associated funerary objects with pesticides, preservatives, or other substances. However, UC Davis has not conducted any pesticide testing.

Cultural Affiliation

Based on the information available and the results of consultation, cultural affiliation is clearly identified by the information available about the human remains and associated funerary objects described in this notice.

Determinations

UC Davis has determined that:

• The human remains described in this notice represent the physical remains of one individual of Native American ancestry.

• The six objects described in this notice are reasonably believed to have been placed intentionally with or near individual human remains at the time of death or later as part of the death rite or ceremony.

• There is a connection between the human remains and associated funerary objects described in this notice and the Hualapai Indian Tribe of the Hualapai Indian Reservation, Arizona.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 20, 2026. If competing requests for repatriation are received, UC Davis must determine the most appropriate requestor prior to repatriation. Requests for joint repatriation of the human remains and associated funerary objects are considered a single request and not competing requests. UC Davis is responsible for sending a copy of this notice to the Indian Tribes and Native Hawaiian organizations identified in this notice and any other consulting parties.

Authority: Native American Graves Protection and Repatriation Act, 25 U.S.C. 3003, and the implementing regulations, 43 CFR 10.10.

Dated: December 8, 2025.
Melanie O'Brien,
Manager, National NAGPRA Program.

[FR Doc. 2025-23365 Filed 12-18-25; 8:45 am]

BILLING CODE 4312-52-P